DEPARTMENT OF HOMELAND SECURITY

Federal Emergency Management Agency

[Docket ID: FEMA-2022-0036; OMB No. 1660-0083]

Agency Information Collection Activities: Proposed Collection; Comment Request; Application for Community Disaster Loan (CDL) Program

AGENCY: Federal Emergency Management Agency, Department of Homeland Security.

ACTION: 60-day notice of revision and request for comments.

SUMMARY: The Federal Emergency Management Agency (FEMA), as part of its continuing effort to reduce paperwork and respondent burden, invites the general public to take this opportunity to comment on an extension, with change, of a currently approved information collection. In accordance with the Paperwork Reduction Act of 1995, this notice seeks comments concerning the Community Disaster Loan (CDL) Program. This collection allows the Federal Government to make loans to local governments that have suffered economic problems due to disasters.

DATES: Comments must be submitted on or before January 17, 2023.

ADDRESSES: To avoid duplicate submissions to the docket, please submit comments at www.regulations.gov under Docket ID FEMA-2022-0036. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Martha Castro, Program Manager, Program Support and Monitoring Branch, Public Assistance Division, 202-212-5761, Martha.Castro@fema.dhs.gov. You may contact the Information Management Division for copies of the proposed collection of information at email address: FEMA-Information-Collections-Management@fema.dhs.gov.

SUPPLEMENTARY INFORMATION: The information collection is required for Community Disaster Loan (CDL) Program eligibility determinations, CDL management, and compliance with other Federal laws and regulations. The CDL Program is authorized by section 417 of the Robert T. Stafford Disaster Relief and Emergency Assistance Act (Pub. L. 93-288, as amended, 42 U.S.C. 5184) and implementing regulations at 44 CFR, part 206, subpart K. FEMA may make a CDL to any local government which has suffered a substantial loss of tax or other revenues as a result of a major disaster or emergency and which demonstrates a need for Federal financial assistance to perform its governmental functions.

The CDL must be justified on the basis of need and be based on the actual and projected expenses, as a result of the disaster, for the fiscal year in which the disaster occurred and the three succeeding fiscal years. FEMA has the authority to cancel repayment of all or part of these CDLs to the extent that a determination is made that revenues of the local government during the three fiscal years following the disaster are insufficient to meet the operating budget of that local government because of disaster related revenue losses and additional unreimbursed disaster-related municipal operating expenses.

FEMA reviewed the forms included in this collection and found that FEMA Form 090-0-4 (Letter of Application) presented difficulties for the local governments. FEMA found a simpler way of fulfilling the regulatory requirement through a template letter which local governments can paste into their letterhead. Therefore, FEMA Form 090-0-4 (Letter of Application) will no longer be part of this collection.

Collection of Information

Title: Application for Community Disaster Loan (CDL) Program.

Type of Information Collection: Extension, with minor change, of a currently approved information collection.

OMB Number: 1660-0083.

FEMA Forms: FEMA Form FF-104-FY-22-223 (formerly 090-0-1), Certification of Eligibility for Community Disaster Loans; FF-104-FY-22-224 (formerly 116-0-1), Promissory Note; FF-104-FY-22-225 (formerly 085-0-1), Local Government Resolution—Collateral Security; FF-104-FY-22-226 (formerly 112-0-3C), Certifications Regarding Lobbying, Debarment, Suspension and Other Responsibility Matters, and Drug-Free Workplace Requirements; FF-104-FY-22-227 (formerly 009-0-15), Application for Loan Cancellation.

Abstract: The loan package for the CDL Program provides local governments that have suffered substantial loss of tax or other revenues as a result of a major disaster, the opportunity to obtain financial assistance in order to perform their governmental functions. The loan must be justified on the basis of need and actual expenses.

Affected Public: State, local, or Tribal Government.

Estimated Number of Respondents: 260.

Estimated Number of Responses: 260.

Estimated Total Annual Burden Hours: 552.

Estimated Total Annual Respondent Cost: $25,800.

Estimated Respondents' Operation and Maintenance Costs: 0.

Estimated Respondents' Capital and Start-Up Costs: 0.

Estimated Total Annual Cost to the Federal Government: $1,059,047.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-24803 Filed 11-14-22; 8:45 am]

BILLING CODE 9111-24-P